DEPARTMENT OF ENERGY

Federal Energy Regulatory Commission

[Project No. 2615-044]

Madison Paper Industries, Brookfield White Pine Hydro LLC, Merimil Limited Partnership, Brassua Hydroelectric Limited Partnership, Eagle Creek Kennebec Hydro, LLC; Notice of Application for Partial Transfer of License, Substitution of Relicense Applicant, and Soliciting Comments, Motions To Intervene, and Protests

On May 8, 2017, Madison Paper Industries (MPI), Brookfield White Pine Hydro LLC (Brookfield), Merimil Limited Partnership (Merimil), Brassua Hydroelectric Limited Partnership (Brassua Partnership) (transferors/co-licensees) and Eagle Creek Kennebec Hydro, LLC (transferee/Eagle Creek) filed a joint application for: (1) Partial transfer of license for the Brassua Storage Project, FERC No. 2615, located on the Moose River in Somerset County, Maine and (2) substitution of Eagle Creek for MPI as the applicant in the pending application for a new license filed by the transferors for Project No. 2615-037.

Applicant Contact: For Transferors: For MPI: Mr. Matthew D. Manahan, Esq., Pierce Atwood LLP, Merrill's Wharf, 254 Commercial Street, Portland, ME 04101, Phone: 207-791-1189, Email: mmanahan@PierceAtwood.com; For Brookfield, Merimil and Brassua Partnership: Mr. John A. Whittaker IV, Winston & Strawn LLP, 1700 K Street NW., Washington, DC 20006-5100, Phone 202-282-5766, Email: jwhittak@winaton.com; and Mr. Alexander M. Wilson, Brookfield Renewable, 41 Victoria Street, Gatineau, QC J8X2A1, Phone: 819-561-8679, Email: alexander.wilson@brookfieldrenewable.com.

For Transferee: For Eagle Creek: Mr. Donald H. Clark and Mr. Joshua E. Adrian, Duncan, Weinberg, Genzer & Pembroke, P.C., 1615 M Street NW., Washington, DC 20036, Emails: dhc@dwgp.com and jea@dwgp.com.

FERC Contact: Patricia W. Gillis, Phone: (202) 502-8735, Email: patricia.gillis@ferc.gov.

Deadline for filing comments, motions to intervene, and protests: 30 days from the issuance date of this notice, by the Commission. The Commission strongly encourages electronic filing. Please file motions to intervene, comments, and protests using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-2615-044.

Dated: June 2, 2017.
Kimberly D. Bose
Secretary.

[FR Doc. 2017-11921 Filed 6-7-17; 8:45 am]

BILLING CODE 6717-01-P